DEPARTMENT OF JUSTICE

National Institute of Justice

[OJP (NIJ) Docket No. 1806]

National Institute of Justice Listening Sessions With Stakeholder Organizations

AGENCY: National Institute of Justice, Office of Justice Programs, Justice.

ACTION: Notice.

SUMMARY: The National Institute of Justice (NIJ) plans to host a series of listening sessions with stakeholder organizations. The purpose of the listening sessions is for the NIJ Director to (1) to gather fact and information from stakeholder organizations about current challenges in the criminal justice and juvenile justice ecosystems that research could address and (2) to explain NIJ's priorities in regard to those challenges. NIJ's priorities are described at: https://nij.ojp.gov/about/nij-director. Stakeholder organizations include law enforcement, corrections, courts, criminal justice, and public safety professional associations; current NIJ grant and cooperative agreement recipients; law enforcement, corrections, courts, and other criminal justice agencies; juvenile justice agencies; crime victims agencies; advocacy groups, including community-based entities that are dedicated to evidence-based public safety initiatives; and other organizations with a nexus to criminal justice and juvenile justice operations and research.

DATES: In-person listening sessions will be held on the following dates and time: October 12, 2022 from 11:00 a.m. to 12:30 p.m.; October 20, 2022 from 10:00 to 11:30 a.m.; and November 7, 2022 from 10:00 to 11:30 a.m. All times in Eastern time.

ADDRESSES: In-person listening sessions will be held at the Office of Justice Programs, 810 7th Street NW, Washington, DC 20531. Virtual listening sessions will be held via Webex.

FOR FURTHER INFORMATION CONTACT: Barry Bratburd, National Institute of Justice, 810 7th Street NW, Washington, DC 20531; telephone number: (202) 616-5314; email address: barry.bratburd2@usdoj.gov.

SUPPLEMENTARY INFORMATION: NIJ is conducting this activity pursuant to its authorities at 34 U.S.C. 10122 and 6 U.S.C. 161-165.

NIJ anticipates holding several listening sessions in-person on the dates listed below. Space will be limited for each in-person listening session, and as a result, only 25 participants will be allowed to register for each. NIJ requests that each organization limit their representatives to only one per organization and attend only one listening session. Exceptions to this limit may occur, should space allow. Participants planning to attend are responsible for their own travel arrangements.

To express interest in attending a listening session, please send an email to the point of contact listed below by 5:00 p.m. Eastern time one week prior to the scheduled meeting and provide the name of your organization and the name of the representatives proposed to attend. A preliminary agenda will be sent via email to confirmed attendees prior to the listening session. Depending on the level of interest, NIJ may convene additional listening sessions to be held virtually or in person. The web address for any virtual listening sessions will be sent via email to confirmed attendees prior to those listening sessions.

Nancy La Vigne,
Director, National Institute of Justice.

[FR Doc. 2022-20407 Filed 9-20-22; 8:45 am]

BILLING CODE 4410-18-P